DEPARTMENT OF THE INTERIOR

National Park Service

[NPS-PWR-PWRO-12638; PPPWGOGAY0 PPMPSAS1Z.YP0000]

Vista Grande Drainage Basin Improvement Project, Fort Funston, Golden Gate National Recreation Area, San Francisco County, CA

AGENCY: National Park Service, Interior.

ACTION: Notice of Intent to Prepare an Environmental Impact Statement.

SUMMARY: In accordance with § 102(2)(C) of the National Environmental Policy Act (NEPA), and the California Environmental Quality Act (CEQA) Guidelines Section 15082, the National Park Service, together with the City of Daly City, intends to prepare a joint Environmental Impact Statement (EIS) and Environmental Impact Report (EIR) to evaluate the potential environmental effects of the proposed Vista Grande Drainage Basin Improvement Project (Project). The EIS/EIR will address proposed improvements to Daly City's infrastructure to address storm-related flooding in the Vista Grande Watershed Drainage Basin and the effects of coastal erosion. The National Park Service (NPS) is the lead agency for the environmental review under NEPA. The City of Daly City is the lead agency for the environmental review under CEQA.

DATES: All written comments must be postmarked not later than June 7, 2013.

Background: The Vista Grande watershed area is located in the City of Daly City and unincorporated Broadmoor Village, in northwestern San Mateo County. This watershed is approximately 2.5 square miles in area and is bordered by San Francisco County to the north, Colma Creek watershed to the south and east, and the Pacific Ocean on the west. The Vista Grande watershed is drained through the Vista Grande Canal and Tunnel, which are located in the City and County of San Francisco, adjacent to John Muir Drive and the southwestern shoreline of Lake Merced. The Vista Grande Tunnel is a sub-surface tunnel beneath Fort Funston, which is owned and managed by NPS as part of the Golden Gate National Recreation Area (GGNRA). The Vista Grande Tunnel connects the Vista Grande watershed to an outfall located on the beach below the Fort Funston bluffs, through which stormwater flows are discharged into the Pacific Ocean.

The City of Daly City has proposed the Project to address storm-related flooding in the Vista Grande Watershed Drainage Basin. The existing Vista Grande Canal and Tunnel do not have adequate hydraulic capacity to convey peak storm flows. As a result, during storm events, flooding periodically occurs in adjacent low-lying residential areas and along John Muir Drive. The Project would involve upgrades to the Vista Grande watershed collection system upstream of the Vista Grande Canal; partial replacement of the existing Vista Grande Canal to incorporate a gross-solid screening device, a treatment wetland, and diversion and discharge structures to route some stormwater (and authorized non-storm water) flows from the Vista Grande Canal to Lake Merced; replacement of the existing Vista Grande Tunnel to expand its capacity; and replacement of the existing outfall structure at Fort Funston.

SUPPLEMENTARY INFORMATION: Along with evaluating a No-Action Alternative, the EIS/EIR will consider a range of alternatives, including various combinations of facilities, such as alternative tunnel alignments and capacities, storm water detention structures, lake level scenarios, and groundwater recharge facilities. The Project would increase the hydraulic capacity of the canal and tunnel and extend its operating life. In addition, the Project would utilize stormwater to restore the level of Lake Merced, which declined in the late-1980s and early-1990s and has not fully recovered. Under the Project, an adjustable-height weir would be used to control the lake level and allow water to be diverted back into the Vista Grande Canal.

The existing outfall, a segment of the Vista Grande Tunnel, and the force main segment are presently exposed to the surf and waves, which have caused significant damage to the structure. The Project would reconfigure these structures to provide protection from the surf and waves. The existing Daly City outfall structure would be removed and replaced with a low-profile outfall structure set into the existing cliff face to reduce future erosion. The existing force main would also be removed and replaced with a similar configuration set back into the cliff face. The existing submarine outfall pipeline and diffuser would be renovated to protect it from erosion and extend its operating life.

FOR FURTHER INFORMATION CONTACT: Steve Ortega, Golden Gate NRA, Fort Mason, Building 201, San Francisco, CA 94123; telephone (415) 561-2841 or email goga_planning@nps.gov.

Public Scoping and Comment: Notice is hereby given that a public scoping process and comment phase has been initiated for the EIS/EIR. The purpose of the public scoping process is to elicit public comment regarding the full spectrum of issues and concerns, a suitable range of alternatives, the nature and extent of potential environmental impacts or ecological benefits, and appropriate mitigation strategies that should be addressed in preparing a draft EIS/EIR. Preliminary issues to be addressed in the EIS/EIR include habitat for fish and wildlife, ecosystem conditions and processes, effects on special status plant and animal species, hydrology, flood hazards, traffic, air quality, visitor access, and visitor experience. Public scoping meetings will be scheduled in San Francisco and San Mateo Counties. Meeting dates, times, and locations will be publicized through local and regional news media, by email to the park mailing list (to be included on the Project email list, please visit: http://ww.nps.gov/goga and click the “Join the Mailing List” link), and via the Project Web site: http://parkplanning.nps.gov/Vista_Grande. This Project Web site will also provide relevant information, including the Project description, planning process updates, meeting notices, reports and documents, and useful links associated with the Project.

All written comments should be mailed to the following address: Superintendent, Golden Gate National Recreation Area; Attn: Vista Grande Project; Fort Mason, Building 201, San Francisco, CA 94123. Before including your address, phone number, email address, or other personal identifying information in your comment, you should be aware that your entire comment—including your personal identifying information—may be made publicly available at any time. While you can ask us in your comment to withhold your personal identifying information from public review, we cannot guarantee that we will be able to do so.

Decision Process: At this time, it is anticipated that the draft EIR/EIS will be distributed for public review in late 2013. Availability of the document for review will be announced by the publication of a Notice of Availability in the Federal Register, through local and regional news media, via the Project Web site, and by email to Project email recipients. Additional public meetings will be held, and further opportunities for public comment will be provided, after the draft EIS/EIR is distributed. Following due consideration of all comments received on the draft EIS/EIR, preparation of the final document is anticipated to be completed in 2014. Because this is a delegated EIS, the official responsible for approval of the Project is the Regional Director, Pacific West Region. Subsequently the official responsible for implementation of the approved Project is the Superintendent, Golden Gate National Recreation Area.

Dated: March 15, 2013.
Christine S. Lehnertz,
Regional Director, Pacific West Region.

[FR Doc. 2013-10914 Filed 5-7-13; 8:45 am]

BILLING CODE 4312-FF-P